DEPARTMENT OF COMMERCE

National Oceanic and Atmospheric Administration

[RTID 0648-XA271]

Endangered and Threatened Species; Take of Anadromous Fish

AGENCY: National Marine Fisheries Service (NMFS), National Oceanic and Atmospheric Administration (NOAA), Commerce.

ACTION: Notice; of availability of a Final Supplemental Environmental Assessment and Finding of No Significant Impact for the Wells Summer Chinook Salmon Hatchery Program for southern resident killer whales.

SUMMARY: Notice is hereby given that NMFS announces the availability of a Final Supplemental Environmental Assessment (FSEA) and Finding of No Significant Impact (FONSI) on the Washington Department of Fish and Wildlife (WDFW) and Public Utility District No. 1 of Douglas County's (Douglas PUD) Hatchery Genetic Management Plan (HGMP), in accordance with National Environmental Policy Act of 1969 (NEPA), as amended (42 U.S.C. 4321 et seq.). The HGMP specifies the release of one million additional subyearling summer Chinook salmon at the Wells Hatchery. This notice provides information on where to view the FSEA and FONSI.

FOR FURTHER INFORMATION CONTACT: Natasha Preston at (503) 231-2178 or by email at natasha.preston@noaa.gov.

SUPPLEMENTARY INFORMATION:

ESA-Listed Species Covered in This Notice

• Upper Columbia River Spring-run Chinook (Oncorhynchus tshawytscha): Endangered, naturally produced and artificially propagated in the Upper Columbia River Basin

• Upper Columbia River Steelhead (O. mykiss): Threatened, naturally produced and artificially propagated in the Upper Columbia River Basin.

• Southern Resident Killer Whales (Orcinus orca): Endangered.

Background and Purpose

The HGMP submitted by WDFW and Douglas PUD describes the release of one million additional subyearling summer Chinook salmon at the Wells Hatchery. The HGMP was submitted to NMFS for review under Endangered Species Act (ESA) Limit 5 of the 4(d) Rule. This production is in addition to Douglas PUD's existing production of summer Chinook of 320,000 yearlings and 484,000 subyearling Chinook at Wells Hatchery. These two existing programs are implemented under the terms and conditions of ESA Section 10(a)(1)(B) Permit No. 23193. These programs were evaluated in a 2019 Final Environmental Assessment (FEA) for ESA Section 4(d) Approval and Section 10(a)(1)(A) Permit Issuance for Steelhead Hatchery Programs and Section 10(a)(1)(B) Permits Issuance for Summer/Fall and Fall Chinook Salmon Hatchery Programs in the Upper Columbia River Basin. The HGMP describes broodstock collection, incubation, rearing, release, and monitoring and evaluation.

The Proposed Action is for NMFS to make an ESA determination under Limit 5 of the 4(d) Rule for WDFW and Douglas PUD Wells Summer Chinook Salmon Hatchery Program for Southern Resident killer whales (SRKW).

Alternatives considered for the project include:

• A “No Action Alternative” where NMFS would not make a determination under the ESA 4(d) Rule;

• A “Proposed Action Alterative” (Preferred Alternative) where NMFS would make a determination that the submitted HGMP meets the criteria of Limit 5 of the 4(d) Rule to produce up to 1,000,000 Chinook salmon subyearlings;

• A “Reduced Production Alternative” where the hatchery operators would submit a revised HGMP proposing the production of 500,000 Chinook salmon smolts (i.e., a 50 percent reduction) and NMFS would make a determination that the revised HGMP meets the criteria of Limit 5 of the 4(d) Rule; and

• A “No Production Alternative” where the proposed hatchery program would not be implemented.

Based on the information examined through the study of this project, the NMFS has determined that a Supplemental Environmental Assessment is the appropriate level of environmental documentation. The NMFS has determined that there are no significant impacts associated with the project and has issued a FONSI.

This notice is being provided for information purposes only, and as such, there is no public comment period associated with this notice. This notice is issued under the authority of 5 U.S.C. 552(a).

Summary of Comments Received in the Response to the Hatchery and Genetic Management Plan and the 2019 FEA

NMFS published notice of its HGMP for public review and comment on January 7, 2020 (85 FR 704), as required under ESA Limit 5 of the 4(d) Rule. The HGMP was available for public review and comment for 30 days. One set of comments was received by one individual during this public commenting period. NMFS considered this information as we reviewed the HGMP. WDFW and Douglas PUD did not make any changes to their HGMP, based on these comments.

The 2019 FEA that precedes the FSEA was also made available for a 30-day public comment period upon notice of availability in the Federal Register on April 2, 2019 (84 FR 12594). We received comments from two commenters. The comments were non-substantive and did not offer suggestions for improving the hatchery programs nor did they provide any supporting information or documentation for their critiques. None of the comments resulted in edits to the FEA.

Viewing the FSEA and FONSI

To view the FSEA and FONSI, please visit: https://www.fisheries.noaa.gov/west-coast/laws-and-policies/west-coast-hatchery-nepa-documents.

Authority

The FSEA and FONSI have been prepared in accordance with NEPA (42 U.S.C. 4321 et seq.); Council on Environmental Quality (CEQ) Regulations for Implementing NEPA (40 CFR 1500-1508) and associated CEQ guidelines: Department of Homeland Security Directive 5100.1, National Environmental Policy Act Implementing Procedures and Policy for Considering Environmental Impacts.

Dated: July 9, 2020.
Angela Somma,
Chief, Endangered Species Division, Office of Protected Resources, National Marine Fisheries Service.

[FR Doc. 2020-15141 Filed 7-13-20; 8:45 am]

BILLING CODE 3510-22-P